DEPARTMENT OF LABOR

Employment and Training Administration

[TA-W-64,182]

Fairmont Dairy, LLC; Belleville, PA; Notice of Termination of Investigation

Pursuant to Section 221 of the Trade Act of 1974, as amended, an investigation was initiated on October 8, 2008, in response to a petition filed by a company official on behalf of workers of Fairmont Dairy, LLC, Belleville, Pennsylvania.

The petitioner has requested that the petition be withdrawn. Consequently, further investigation would serve no purpose and the investigation has been terminated.

Signed at Washington, DC, this 22nd day of October 2008.
Linda G. Poole,
Certifying Officer, Division of Trade Adjustment Assistance.

[FR Doc. E8-26055 Filed 10-31-08; 8:45 am]

BILLING CODE 4510-FN-P